DEPARTMENT OF THE TREASURY

Submission for OMB Review; Comment Request

May 3, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before June 8, 2006 to be assured of consideration.

Financial Crimes Enforcement Network (FinCEN)

OMB Number: 1506-0020.

Type of Review: Extension.

Title: Anti-Money laundering programs for money services business, mutual funds, and operators of credit card systems.

Description: Money services businesses, mutual funds, and operators of credit card systems are required to develop and implement written anti-money laundering programs. A copy of the program must be maintained for five years.

Respondents: Business or other for-profit.

Estimated Total Reporting Burden: 203,006 hours.

OMB Number: 1506-0028.

Type of Review: Extension.

Title: Anti-Money Laundering Program for Unregistered Investment Companies.

Description: This proposed rule would require unregistered investment companies to establish and maintain anti-money laundering programs. A copy of the written program would have to be maintained for five years. These companies would also be required to file notices with FinCEN, identifying themselves and providing related basic information.

Respondents: Business or other for-profit.

Estimated Total Reporting Burden: 2 hours.

OMB Number: 1506-0030.

Type of Review: Extension.

Title: Anti-Money Laundering Programs for Dealers in precious metals, precious stones, or jewels.

Description: Dealers in precious metals, stones, or jewels are required to establish and maintain a written anti-money laundering program. A copy of the written program must be maintained for five years.

Respondents: Business or other for-profit.

Estimated Total Reporting Burden: 20,000 hours.

OMB Number: 1506-0034.

Type of Review: Extension.

Title: Customer Identification Programs for Broker-Dealers.

Description: Broker-dealers are required to establish and maintain a customer identification program. A copy of the program must be maintained for five years.

Respondents: Business or other for-profit.

Estimated Total Reporting Burden: 630,896 hours.

Clearance Officer: Russell Stephenson, (202) 354-6012, Department of the Treasury, Financial Crimes Enforcement Network, P.O. Box 39, Vienna, VA 22183.

OMB Reviewer: Alexander T. Hunt, (202) 395-7316, Office of Management and Budget, Room 10235, New Executive Office Building, Washington, DC 20503.

Michael A. Robinson,
Treasury PRA Clearance Officer.

[FR Doc. E6-7028 Filed 5-8-06; 8:45 am]

BILLING CODE 4810-02-P